DEPARTMENT OF TRANSPORTATION

Federal Aviation Administration

14 CFR Part 71

[Docket No. FAA-2014-0274; Airspace Docket No. 13-AGL-23]

RIN 2120-AA66

Proposed Modification and Revocation of Air Traffic Service (ATS) Routes in the Vicinity of Sandusky, OH

AGENCY: Federal Aviation Administration (FAA), DOT.

ACTION: Notice of Proposed Rulemaking (NPRM).

SUMMARY: This action proposes to modify 5 VHF Omnidirectional Range (VOR) Federal airways (V-6, V-30, V-126, V-133, and V-416) and remove 1 VOR Federal airway (V-65) in the vicinity of Sandusky, OH. The FAA is proposing this action due to the scheduled decommissioning of the Sandusky, OH (SKY), VOR/Distance Measuring Equipment (VOR/DME) facility that provides navigation guidance for a portion of the airways listed.

DATES: Comments must be received on or before August 1, 2014.

ADDRESSES: Send comments on this proposal to the U.S. Department of Transportation, Docket Operations, M-30, 1200 New Jersey Avenue SE., West Building Ground Floor, Room W12-140, Washington, DC 20590-0001; telephone: (202) 366-9826. You must identify FAA Docket No. FAA-2014-0274 and Airspace Docket No. 13-AGL-23 at the beginning of your comments. You may also submit comments through the Internet at http://www.regulations.gov.

FOR FURTHER INFORMATION CONTACT: Colby Abbott, Airspace Policy and Regulations Group, Office of Airspace Services, Federal Aviation Administration, 800 Independence Avenue SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2014-0274 and Airspace Docket No. 13-AGL-23) and be submitted in triplicate to the Docket Management Facility (see ADDRESSES section for address and phone number). You may also submit comments through the Internet at http://www.regulations.gov.

Commenters wishing the FAA to acknowledge receipt of their comments on this action must submit with those comments a self-addressed, stamped postcard on which the following statement is made: “Comments to FAA Docket No. FAA-2014-0274 and Airspace Docket No. 13-AGL-23.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the Internet at http://www.regulations.gov.

You may review the public docket containing the proposal, any comments received and any final disposition in person in the Dockets Office (see ADDRESSES section for address and phone number) between 9:00 a.m. and 5:00 p.m., Monday through Friday, except Federal holidays. An informal docket may also be examined during normal business hours at the office of the Central Service Center, Operations Support Group, Federal Aviation Administration, 2601 Meacham Blvd., Fort Worth, TX 76137.

Persons interested in being placed on a mailing list for future NPRMs should contact the FAA's Office of Rulemaking, (202) 267-9677, for a copy of Advisory Circular No. 11-2A, Notice of Proposed Rulemaking Distribution System, which describes the application procedure.

Background

The SKY VOR/DME facility is scheduled to be decommissioned due to the Griffing Sandusky airport property on which it is located being sold and developed into something other than an airport. Additionally, the FAA lease on the property for the SKY VOR/DME ends in September 2014. With the decommissioning of the SKY VOR/DME, ground-based navigation aid (NAVAID) coverage is insufficient to enable the continuity of the affected airways. The proposed modifications to VOR Federal airways V-6, V-30, V-126, V-133, and V-416 would result in a gap in the route structures, as well as the proposed removal of VOR Federal airway V-65. Route segments supported by other NAVAIDs would be retained. To mitigate the decommissioning of the SKY VOR/DME facility and the proposed non-continuous route structures, adjacent VOR Federal airways would remain available.

The Proposal

The FAA is proposing an amendment to Title 14, Code of Federal Regulations (14 CFR) part 71 to modify VOR Federal airways V-6, V-30, V-126, V-133, and V-416, and remove V-65 in the vicinity of Sandusky, OH. These proposed changes are necessary due to the scheduled decommissioning of the SKY VOR/DME. The proposed route modifications are outlined below.

V-6: V-6 extends from the Oakland, CA (OAK), VOR Tactical Air Navigation (VORTAC) to the DuPage, IL (DPA), VOR/DME, and from the intersection of the Chicago Heights, IL (CGT), VORTAC 358° and Gipper, MI (GIJ), VORTAC 271° radials (NILES fix) to the La Guardia, NY (LGA), VOR/DME. The route segment between the Waterville, OH (VWV), VOR/DME and Dryer, OH (DJB), VOR/DME facilities would be removed and aircraft flying between VWV and DJB would be routed using other existing adjacent airways.

V-30: V-30 extends from the Badger, WI (BAE), VORTAC to the Solberg, NJ (SBJ), VOR/DME. The route segment between the VWV VOR/DME and DJB VOR/DME facilities would be removed and aircraft flying between VWV and DJB would be routed using other existing adjacent airways.

V-65: V-65 extends from the DJB VOR/DME to the Carleton, MI (CRL), VORTAC. This route would be removed completely and aircraft flying between DJB and CRL would be routed using other existing adjacent airways.

V-126: V-126 extends from the intersection of the Peotone, IL (EON), VORTAC 053° and Knox, IN (OXI), VOR/DME 297° radials (BEARZ fix) to the Stonyfork, PA (SFK), VOR/DME. The route segment between the VWV VOR/DME and DJB VOR/DME facilities would be removed and aircraft flying between VWV and DJB would be routed using other existing adjacent airways.

V-133: V-133 extends from the intersection of the Charlotte, NC (CLT), VOR/DME 305° and Barretts Mountain, NC (BZM), VOR/DME 197° radials (LINCO fix) to the Red Lake, ON, Canada (YRL), VOR/DME, excluding the airspace within Canada. The route segment between the Mansfield, OH (MFD), VORTAC and Salem, MI (SVM), VORTAC facilities would be removed and aircraft flying between MFD and SVM would be routed using other existing adjacent airways.

V-416: V-416 extends from the Rosewood, OH (ROD), VORTAC to the intersection of the MFD VORTAC 045° and SKY VOR/DME 107° radials (JAKEE fix). Since the JAKEE fix is defined using a radial from the SKY VOR, the fix is being redefined in its same location using radials from the MFD VORTAC and DJB VOR/DME to retain the route unchanged.

With the exception of the Dryer, OH, VOR/DME radial information contained in the regulatory text V-416 description, the navigation aid radials cited in the proposed VOR Federal airways descriptions are stated relative to True north.

Domestic VOR Federal airways are published in paragraph 6010(a) of FAA Order 7400.9X dated August 7, 2013, and effective September 15, 2013, which is incorporated by reference in 14 CFR 71.1. The VOR Federal airways listed in this document would be subsequently published in the Order.

The FAA has determined that this proposed regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that would only affect air traffic procedures and air navigation, it is certified that this proposed rule, when promulgated, would not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it would modify the route structure as necessary to preserve the safe and efficient flow of air traffic within the NAS.

Environmental Review

This proposal will be subject to an environmental analysis in accordance with FAA Order 1050.1E, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9X, Airspace Designations and Reporting Points, dated August 7, 2013 and effective September 15, 2013, is amended as follows:

Paragraph 6010(a) Domestic VOR Federal Airways

* * * * *

V-6 [Amended]

From Oakland, CA; INT Oakland 039° and Sacramento, CA, 212° radials; Sacramento; Squaw Valley, CA; Mustang, NV; Lovelock, NV; Battle Mountain, NV; INT Battle Mountain 062° and Wells, NV, 256° radials; Wells; 5 miles, 40 miles, 98 MSL, 85 MSL, Lucin, UT; 43 miles, 85 MSL, Ogden, UT; 11 miles, 50 miles, 105 MSL, Fort Bridger, WY; Rock Springs, WY; 20 miles, 39 miles 95 MSL, Cherokee, WY; 39 miles, 27 miles 95 MSL, Medicine Bow, WY; INT Medicine Bow 106° and Sidney, NE., 291° radials; Sidney; North Platte, NE; Grand Island, NE; Omaha, NE; Des Moines, IA; Iowa City, IA; Davenport, IA; INT Davenport 087° and DuPage, IL, 255° radials; to DuPage. From INT Chicago Heights, IL, 358° and Gipper, MI, 271° radials; Gipper; INT Gipper 092° and Waterville, OH, 288° radials; to Waterville. From Dryer, OH; Youngstown, OH; Clarion, PA; Philipsburg, PA; Selinsgrove, PA; Allentown, PA; Solberg, NJ; INT Solberg 107° and Yardley, PA, 068° radials; INT Yardley 068° and La Guardia, NY, 213° radials; to La Guardia. The airspace within R-4803, R-4813A, and R-4813B is excluded when active.

* * * * *

V-30 [Amended]

From Badger, WI; INT Badger 102° and Pullman, MI, 303° radials; Pullman; Litchfield, MI; to Waterville, OH. From Dryer, OH; Akron, OH; Clarion, PA; Philipsburg, PA; Selinsgrove, PA; East Texas, PA; INT East Texas 095° and Solberg, NJ, 264° radials; to Solberg.

* * * * *

V-65 [Removed]

* * * * *

V-126 [Amended]

From INT Peotone, IL, 053° and Knox, IN, 297° radials; INT Knox 297° and Goshen, IN, 270° radials; Goshen; to Waterville, OH. From Dryer, OH; Jefferson, OH; Erie, PA; Bradford, PA; to Stonyfork, PA.

* * * * *

V-133 [Amended]

From INT Charlotte, NC, 305° and Barretts Mountain, NC, 197° radials; Barretts Mountain; Charleston, WV; Zanesville, OH; Tiverton, OH; to Mansfield, OH. From Salem, MI; INT Salem 346° and Saginaw, MI, 160° radials; Saginaw; Traverse City, MI; Escanaba, MI; Sawyer, MI; Houghton, MI; Thunder Bay, ON, Canada; International Falls, MN; to Red Lake, ON, Canada. The airspace within Canada is excluded.

* * * * *

V-416 [Amended]

From Rosewood, OH; INT Rosewood 041° and Mansfield, OH, 262° radials; Mansfield; to INT Mansfield 045° and Dryer, OH, 123°T/129°M radials.

* * * * *

Issued in Washington, DC, on June 11, 2014.
Gary A. Norek,
Manager, Airspace Policy & Regulations Group.

[FR Doc. 2014-14142 Filed 6-16-14; 8:45 am]

BILLING CODE 4910-13-P